DEPARTMENT OF COMMERCE

National Oceanic and Atmospheric Administration

[Docket No.: I.D. 030530140-5253-02]

Amendment to Final Guidelines for the Coastal and Estuarine Land Conservation Program

AGENCY: National Ocean Service (NOS), National Oceanic and Atmospheric Administration (NOAA), Department of Commerce.

ACTION: Notice; amendment to final guidelines.

SUMMARY: The National Oceanic and Atmospheric Administration, National Ocean Service publishes this notice to amend the Final Guidelines for the Coastal and Estuarine Land Conservation Program (CELCP). For those grants issued in fiscal year 2002 only, CELCP may extend the financial assistance award period of grants issued in fiscal year 2002 for two additional years, totaling a maximum award duration of five years.

FOR FURTHER INFORMATION CONTACT: For further information, contact: Elisabeth Morgan, 301-713-3155 X166, elisabeth.morgan@noaa.gov.

SUPPLEMENTARY INFORMATION: The Coastal and Estuarine Land Conservation Program was established pursuant to Public Law 107-77 “for the purpose of protecting important coastal and estuarine areas that have significant conservation, recreation, ecological, historical, or aesthetic values, or that are threatened by conversion from their natural or recreational state to other uses.” The Final Guidelines for CELCP was published in the Federal Register on June 17, 2003 (68 FR 35860). The Final Guidelines stated that the standard financial assistance award period is 18 months, and could be extended an additional 18 months if circumstances warrant, but may not exceed 3 years. CELCP has noted that several land acquisition projects funded in 2002 will not be completed by the end of fiscal year 2005. These awards were issued during the first year of the Program, prior to the issuance of the Final Guidelines in which the three-year limit was stipulated. For this reason, CELCP is amending the Final Guidelines for the Coastal and Estuarine Land Conservation Program to allow the financial assistance award period for awards issued in fiscal year 2002 to be extended for an additional two years. The maximum award duration for these grants is five years and will end on September 30, 2007.

Classification

Executive Order 12866

This notice has been determined to be not significant for purposes of Executive Order 12866.

Executive Order 13132 (Federalism).

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: September 30, 2005.
Richard W. Spinrad,
Assistant Administrator, National Ocean Service.

[FR Doc. 05-20327 Filed 10-7-05; 8:45 am]

BILLING CODE 3510-22-P